GENERAL SERVICES ADMINISTRATION

[Notice-CECANF-2014-03; Docket No. 2014-0005; Sequence No. 3]

Commission To Eliminate Child Abuse and Neglect Fatalities; Announcement of Meeting

AGENCY: Commission To Eliminate Child Abuse and Neglect Fatalities, GSA.

ACTION: Meeting notice.

SUMMARY: The Commission to Eliminate Child Abuse and Neglect Fatalities (CECANF), a Federal Advisory Committee established by the Protect Our Kids Act of 2012, Public Law 112-275, will hold a meeting open to the public on Thursday, July 10, 2014 in Tampa, Florida.

DATES: The meeting will be held on Thursday, July 10, 2014, from 8:00 a.m. to 4:30 p.m. Eastern Time.

ADDRESSES: CECANF will convene its meeting at the Children's Board of Hillsborough County, 1002 East Palm Avenue, Tampa, FL 33605. This site is accessible to individuals with disabilities. The meeting will also be made available via teleconference. Access information for people who are hearing impaired will be provided upon request. Please indicate your request in your online registration.

Submit comments identified by “Notice-CECANF-2014-03”, by any of the following methods:

• Regulations.gov: http://www.regulations.gov.

Submit comments via the Federal eRulemaking portal by searching for “Notice-CECANF-2014-03”. Select the link “Comment Now” that corresponds with “Notice-CECANF-2014-03”. Follow the instructions provided at screen. Please include your name, company name (if any), and “Notice-CECANF-2014-03” on your attached document.

• Mail: Commission to Eliminate Child Abuse and Neglect Fatalities, c/o General Services Administration, Agency Liaison Division, 1800 F St. NW., Room 7003D, Washington, DC 20006.

Instructions: Please submit comments only and cite “Notice-CECANF-2014-03” in all correspondence related to this notice. All comments received will be posted without change to http://www.regulations.gov, including any personal and/or business confidential information provided.

FOR FURTHER INFORMATION CONTACT: Visit the CECANF Web site at https://eliminatechildabusefatalities.sites.usa.gov/. Or contact Ms. Patricia Brincefield, Communications Director, at 202-818-9596, 1800 F St. NW., Room 7003D, Washington, DC 20006.

SUPPLEMENTARY INFORMATION: Background: CECANF was established to develop a national strategy and recommendations for reducing fatalities resulting from child abuse and neglect.

Agenda: The purpose of the meeting is for Commission members to gather information to better understand the extent of, and risks associated with, child abuse and neglect fatalities. The Commission will hear from researchers regarding strategies for improving national data and preventing fatalities; learn more about the federal policy framework for addressing these fatalities; gain a better understanding of confidentiality issues and possible solutions; and hear about child welfare, law enforcement, health, and public health strategies for addressing the issue of child abuse and neglect fatalities.

Attendance at the Meeting: Individuals interested in attending the meeting in person must register in advance because of limited space. To register to attend in person or by phone, please go to https://www.surveymonkey.com/s/7JCP6W9 and follow the prompts. Detailed meeting minutes will be posted within 90 days of the meeting. Interested members of the public may listen to the CECANF discussion by calling 1-866-928-2008, and entering pass code 556476. Members of the public will not have the opportunity to ask questions or otherwise participate in the meeting.

However, members of the public wishing to comment should follow the steps detailed under the heading addresses in this publication or contact us via the CECANF Web site at https://eliminatechildabusefatalities.sites.usa.gov/contact-us/.

Dated: June 23, 2014.
Patricia Brincefield,
CECANF Communications Director.

[FR Doc. 2014-15054 Filed 6-26-14; 8:45 am]

BILLING CODE 6820-34-P